DEPARTMENT OF COMMERCE

National Oceanic and Atmospheric Administration

[RTID 0648-XV157]

North Pacific Fishery Management Council; Public Meeting

AGENCY: National Marine Fisheries Service (NMFS), National Oceanic and Atmospheric Administration (NOAA), Commerce.

ACTION: Notice of public meeting.

SUMMARY: The North Pacific Fishery Management Council (Council) Crab Plan Team will meet January 14, 2020 through January 17, 2020.

DATES: The meetings will be held Tuesday, January 14, 2020 through Friday, January 17, 2020, from 8 a.m. to 5 p.m., Alaska Standard Time.

ADDRESSES: The meetings will be held in the Large Conference Room at the Kodiak Fisheries Research Center, 301 Research Ct, Kodiak, AK 99615.

Council address: North Pacific Fishery Management Council, 1007 West 3rd, Suite 400, Anchorage, AK 99501; telephone: (907) 271-2809.

FOR FURTHER INFORMATION CONTACT: Jim Armstrong, Council staff; telephone: (907) 271-2809.

SUPPLEMENTARY INFORMATION:

Agenda

Tuesday, January 14, 2020 Through Friday, January 17, 2020

The Crab Plan Team will review the final 2020 stock assessment for Norton Sound red king crab. Additionally the Crab Plan Team will discuss fishery catches, ecosystem and socioeconomic profiles, St Matthew blue king crab rebuilding, draft model runs for Aleutian Islands golden king crab, the BSAI crab economic SAFE, various aspects of crab research off Alaska, and plans for the Team's upcoming May 2020 meeting.

The Agenda is subject to change, and the latest version will be posted at https://meetings.npfmc.org/Meeting/Details/1163 prior to the meeting, along with meeting materials.

Public Comment

Public comment letters will be accepted and should be submitted electronically to https://meetings.npfmc.org/Meeting/Details/1163 or through the mail: North Pacific Fishery Management Council, 1007 West 3rd Suite 400, Anchorage, AK 99501. In-person oral public testimony will be accepted at the discretion of the chairs.

Special Accommodations

These meetings are physically accessible to people with disabilities. Requests for sign language interpretation or other auxiliary aids should be directed to Shannon Gleason at (907) 271-2809 at least 7 working days prior to the meeting date.

Authority: 16 U.S.C. 1801 et seq.

Dated: December 18, 2019.
Tracey L. Thompson,
Acting Deputy Director, Office of Sustainable Fisheries, National Marine Fisheries Service.

[FR Doc. 2019-27638 Filed 12-20-19; 8:45 am]

BILLING CODE 3510-22-P